DEPARTMENT OF TRANSPORTATION

Federal Highway Administration

Environmental Impact Statement: Williamson County, Tennessee

AGENCY: Federal Highway Administration (FHWA), DOT.

ACTION: Notice of intent.

SUMMARY: The FHWA is issuing this notice to advise the public that an Environmental Impact Statement (EIS) will be prepared for a proposed highway project in the City of Franklin in Williamson County Tennessee.

FOR FURTHER INFORMATION CONTACT: Mr. Mark A. Doctor, Field Operations Team Leader, Federal Highway Administration, 640 Grassmere Park, Suite 112, Nashville, Tennessee 37211, Telephone: (615) 781-5788.

SUPPLEMENTARY INFORMATION: The FHWA, in cooperation with the Tennessee Department of Transportation, will prepare an Environmental Impact Statement (EIS) on a proposal to extend State Route 397 (Mack Hatcher Parkway) in the City of Franklin in Williamson County, Tennessee. The proposed project will extend the existing Mack Hatcher Parkway circumferentially around the westside of the City of Franklin and will be constructed on new alignment for a distance of approximately 12.8 kilometers (8.0 miles). The extension will be constructed as a four lane divided, partial control of access highway.

The proposed extension of Mack Hatcher Parkway to the west is being developed as a transportation facility that will be capable of safely handling anticipated levels of future traffic growth within the study area. The proposed project is located within one of the fastest growing counties in Tennessee. This growth has placed a heavy burden on the existing transportation system and will continue to do so as projected development occurs within the study area. The completed circumferential route will help improve the overall local flow of traffic for the City of Franklin. The proposed extension will be developed to continue the geometry and operational characteristics of the existing parkway. Alternatives under consideration include (1) taking no action (no-build) (2) constructing a four-lane divided highway on new locations to complete the circumferential route and (3) other reasonable alternatives that may arise from public and agency input.

Initial coordination letters describing the proposed action and soliciting comments will be sent to appropriate Federal, State and local agencies, and to private organizations and citizens who have previously expressed or are known to have an interest in this proposal. A public hearing will be held upon completion of the Draft EIS and public notice will be given of the time and place of the hearing. The Draft EIS will be available for public and agency review and comment prior to the public hearing. An agency scoping meeting and a public involvement meeting is planned as part of the scoping process for this project.

To ensure that the full range of issues related to this proposed action are addressed and all significant issues identified, comments and suggestions are invited from all interested parties. Comments or questions concerning this proposed action and the EIS should be directed to FHWA at the address provided above.

(Catalog of Federal Domestic Assistance Program Number 20.205, Highway Planning and Construction. The regulations implementing Executive Order 12372 regarding intergovernmental consultation on Federal programs and activities apply to this program.)
Issued on: June 18, 2001.
Charles S. Boyd,
Division Administrator, Tennessee Division, Nashville, Tennessee.

[FR Doc. 01-16144 Filed 6-26-01; 8:45 am]

BILLING CODE 4910-22-P